DEPARTMENT OF HOMELAND SECURITY

Federal Emergency Management Agency

Open Meeting of the Federal Interagency Committee on Emergency Medical Services

AGENCY: Emergency Preparedness and Response Directorate, Federal Emergency Management Agency, Department of Homeland Security.

ACTION: Notice of open meeting.

Summary: FEMA announces the following open meeting.

Name: Federal Interagency Committee on Emergency Medical Services (FICEMS).

Date of Meeting: June 5, 2003.

Place: Building J, Room 107, National Emergency Training Center (NETC), 16825 South Seton Avenue, Emmitsburg, Maryland 21727.

Time: 10:30 a.m.

Proposed Agenda: Review and submission for approval of previous FICEMS Committee Meeting Minutes; Ambulance Safety Subcommittee and Counter-terrorism Subcommittee report; presentation of member agency reports; and reports of other interested parties.

SUPPLEMENTARY INFORMATION: This meeting will be open to the public with limited seating available on a first-come, first-served basis. See the Response and Security Procedures below.

Response Procedures: Committee Members and members of the general public who plan to attend the meeting should contact Ms. Patti Roman, on or before Tuesday, June 3, 2003, via mail at NATEK Incorporated, 4200-G Technology Court, Chantilly, Virginia 20151, or by telephone at (703) 818-7070, or via facsimile at (703) 818-0165, or via e-mail at proman@natekinc.com. This is necessary to be able to create and provide a current roster of visitors to NETC Security per directives.

Security Procedures: Increased security controls and surveillance are in effect at the National Emergency Training Center. All visitors must have a valid picture identification card and their vehicles will be subject to search by Security personnel. All visitors will be issued a visitor pass, which must be worn at all times while on campus. Please allow adequate time before the meeting to complete the security process.

Conference Call Capabilities: If you are not able to attend in person, a toll free number has been set up for teleconferencing. The toll free number will be available from 10:30 a.m. until 4 p.m. Members should call in around 10:30 a.m. The number is 1-800-320-4330. The FICEMS conference code is “10.” If you plan to call in, you should just enter the number “10”—no need to hit any other buttons, such as the star or pound keys.

FICEMS Meeting Minutes: Minutes of the meeting will be prepared and will be available upon request 30 days after they have been approved at the next FICEMS Committee Meeting on September 5, 2003. The minutes will also be posted on the United States Fire Administration website at http://www.usfa.fema.gov/ems/ficems.htm within 30 days after their approval at the September 5, 2003 FICEMS Committee Meeting.

Dated: May 7, 2003.
R. David Paulison,
Director, Preparedness Division.

[FR Doc. 03-12003 Filed 5-13-03; 8:45 am]

BILLING CODE 6718-08-P